SMALL BUSINESS ADMINISTRATION

[Disaster Declaration #14501 and #14502]

South Carolina Disaster Number SC-00032

AGENCY: U.S. Small Business Administration.

ACTION: Amendment 1.

SUMMARY: This is an amendment of the Presidential declaration of a major disaster for Public Assistance Only for the State of South Carolina (FEMA-4241-DR), dated 10/15/2015.

Incident: Severe Storms and Flooding.

Incident Period: 10/01/2015 and continuing.

Effective Date: 10/20/2015.

Physical Loan Application Deadline Date: 12/14/2015.

Economic Injury (EIDL) Loan Application Deadline Date: 07/14/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of South Carolina, dated 10/15/2015, is hereby amended to include the following areas as adversely affected by the disaster.

Primary Counties: Chesterfield, Clarendon, Dorchester, Horry, Lee, Marion, Orangeburg, Saluda, Sumter.

All other information in the original declaration remains unchanged.

(Catalog of Federal Domestic Assistance Numbers 59002 and 59008)

Joseph P. Loddo,
Acting Associate Administrator for Disaster Assistance.

[FR Doc. 2015-27624 Filed 10-29-15; 8:45 am]

BILLING CODE 8025-01-P